DEPARTMENT OF COMMERCE

National Oceanic and Atmospheric Administration

50 CFR Part 648

[I.D. 120606A]

Mid-Atlantic Fishery Management Council; Public Hearings

AGENCY: National Marine Fisheries Service (NMFS), National Oceanic and Atmospheric Administration (NOAA), Commerce.

ACTION: Notice of public hearing meetings; request for comments.

SUMMARY: The Mid-Atlantic Fishery Management Council is developing Amendment 14 to the Summer Flounder, Scup, and Black Sea Bass FMP to implement a rebuilding plan to rebuild the scup stock to the stock level associated with maximum sustainable yield (BMSY) and make the scup Gear Restricted Areas (GRAs) currently addressed and modified through the annual specification setting process modifiable though frameworks to the FMP.

DATES: Written comments will be accepted until January 26, 2007. All public hearings will begin at 7 p.m. The dates and locations of the meetings are as follows:

• Monday, January 22, 2007: Hilton Garden Inn Providence Airport/Warwick, One Thuber Street,Warwick, RI 02886.

• Tuesday, January 23, 2007: Best Western East End, 1830 Route 25, Riverhead, NY 11901.

• Wednesday, January 24, 2007: Holiday Inn, 290 State Highway 37 East, Toms River, NJ 08753.

ADDRESSES: Comments may be submitted through any of the following methods:

• Mail: Daniel T. Furlong, Executive Director, Mid-Atlantic Fishery Management Council, 300 S. New Street, Dover, DE 19904

• Fax: 302-674-5399

• Email: info@mafmc.org

FOR FURTHER INFORMATION CONTACT: Daniel T. Furlong, Executive Director of the Mid-Atlantic Fishery Management, 302-674-2331, ext. 19.

SUPPLEMENTARY INFORMATION:

Background

The purpose of these public meetings is to allow stakeholder groups and interested parties to comment on actions proposed in Amendment 14 to the Summer Flounder, Scup, and Black Sea Bass FMP. In August 2005, NMFS notified the Council that the scup stock has officially been designated as overfished. Therefore, the purpose of this amendment is to develop a rebuilding plan for the scup stock, thereby preventing overfishing and rebuilding the scup stock to the level associated with maximum sustainable yield (BMSY). In addition, the scup Gear Restricted Areas (GRAs) currently addressed and modified through the annual specification setting process would be made modifiable through frameworks to the FMP. This action is needed to improve the timing of implementation of modifications to the GRAs and allow those actions to be expedited through framework documents as opposed to annual specifications. The Amendment document that will be used at the meetings will be mailed to all entities on the Council's mailing list. Additional copies are readily available from the above address or via the Internet at http://www.mafmc.org/mid-atlantic/comments/comments.htm .

Special Accommodations

The hearings are physically accessible to people with disabilities. Requests for sign language interpretation or other auxiliary aids should be directed to Jan Bryan (302-674-2331 ext: 18) at the Mid-Atlantic Council office at least 5 days prior to the hearing date.

Dated: December 6, 2006.
James P. Burgess,
Acting Director, Office of Sustainable Fisheries, National Marine Fisheries Service.

[FR Doc. E6-21235 Filed 12-13-06; 8:45 am]

BILLING CODE 3510-22-S